DEPARTMENT OF HEALTH AND HUMAN SERVICES

Project Narrative Correction

AGENCY: Substance Abuse and Mental Health Services Administration.

ACTION: Correction of Project Narrative page limitations for the grant program, Projects to Deliver and Evaluate Peer-to-Peer Recovery Support Services (RCSP III)—[TI 04-008].

SUMMARY: This notice is to inform the public that the page limitations for the Project Narrative that were published on March 23, 2004, in the announcement for the grant program, Projects to Deliver and Evaluate Peer-to-Peer Recovery Support Services (RCSP III)—[TI 04-008], were inconsistent. The correct page limitation for the Project Narrative (Sections A through E) is 30 pages.

FOR FURTHER INFORMATION CONTACT: For questions about the page limitations for the Project Narrative or other issues relating to this program, contact: Catherine D. Nugent, M.S.; CSAT/SAMHSA; Recovery Community Services Program; Rockwall II, Room 7-213; 5600 Fishers Lane; Rockville, MD 20857; (301) 443-2662; E-mail: cnugent@samhsa.gov.

Dated: March 25, 2004.
Margaret Gilliam,
Acting Director, Office of Policy, Planning and Budget, Substance Abuse and Mental Health Services Administration.

[FR Doc. 04-7189 Filed 3-30-04; 8:45 am]

BILLING CODE 4162-20-P